DEPARTMENT OF THE TREASURY

Office of Foreign Assets Control

Unblocking of Specially Designated Narcotics Traffickers Pursuant to Executive Order 12978

AGENCY: Office of Foreign Assets Control, Treasury.

ACTION: Notice.

SUMMARY: The Treasury Department's Office of Foreign Assets Control (“OFAC”) is publishing the name of six entities whose property and interests in property have been unblocked pursuant to Executive Order 12978 of October 21, 1995, Blocking Assets and Prohibiting Transactions With Significant Narcotics Traffickers.

DATES: The unblocking and removal from the list of Specially Designated Narcotics Traffickers of the entities identified in this notice whose property and interests in property were blocked pursuant to Executive Order 12978 of October 21, 1995, is effective on January 17, 2008.

FOR FURTHER INFORMATION CONTACT: Assistant Director, Compliance Outreach & Implementation, Office of Foreign Assets Control, Department of the Treasury, Washington, DC 20220, tel.: 202/622-2420.

SUPPLEMENTARY INFORMATION:

Electronic and Facsimile Availability

This document and additional information concerning OFAC are available from OFAC's Web site (http://www.treas.gov/ofac) via facsimile through a 24-hour fax-on-demand service, tel.: (202) 622-0077.

Background

On October 21, 1995, the President, invoking the authority, inter alia, of the International Emergency Economic Powers Act (50 U.S.C. 1701-1706) (“IEEPA”), issued Executive Order 12978 (60 FR 54579, October 24, 1995) (the “Order”). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The persons listed in an Annex to the Order; (2) any foreign person determined by the Secretary of Treasury, in consultation with the Attorney General and Secretary of State, to play a significant role in international narcotics trafficking centered in Colombia; or (3) to materially assist in, or provide financial or technological support for or goods or services in support of, the narcotics trafficking activities of persons designated in or pursuant to this order; and (4) persons determined by the Secretary of the Treasury, in consultation with the Attorney General and the Secretary of State, to be owned or controlled by, or to act for or on behalf of, persons designated pursuant to this Order.

On January 17, 2008, the Director of OFAC removed from the list of Specially Designated Narcotics Traffickers the entities listed below, whose property and interests in property were blocked pursuant to the Order.

The listing of the unblocked entities follows:

1. INVERSIONES MIGUEL RODRIGUEZ E HIJO, Avenida 4N 6N-67 of. 601, Cali, Colombia; Avenida 6N 23DN-16 of. 202, 301, 302, 401, 402, Cali, Colombia [SDNT]

2. INVERSIONES RODRIGUEZ ARBELAEZ Y CIA. S. EN C., Avenida 4N No. 5N-20, Cali, Colombia; Avenida 6N No. 23D-16 of. 402, Cali, Colombia [SDNT]

3. INVERSIONES RODRIGUEZ MORENO Y CIA. S. EN C., Calle 10 No. 4-47, Cali, Colombia [SDNT]

4. INVERSIONES Y CONSTRUCCIONES ATLAS LTDA. (f.k.a. INVERSIONES MOMPAX LTDA.; f.k.a. MOMPAX LTDA.), Calle 10 No. 4-47 piso 19, Cali, Colombia; NIT # 800102408-1 (Colombia) [SDNT]

5. INVERSIONES Y CONSTRUCCIONES COSMOVALLE LTDA. (f.k.a. COMPAX LTDA.; a.k.a. COSMOVALLE; f.k.a. INVERSIONES Y DISTRIBUCIONES COMPAX LTDA.), Calle 10 No. 4-47 piso 19, Cali, Colombia; NIT # 800102403-5 (Colombia) [SDNT]

6. M.O.C. ECHEVERRY HERMANOS LTDA., Calle 23AN No. 5AN-21, Cali, Colombia; NIT # 800038241-5 (Colombia) [SDNT]

Dated: January 17, 2008.
Adam J. Szubin,
Director, Office of Foreign Assets Control.

[FR Doc. E8-1261 Filed 1-24-08; 8:45 am]

BILLING CODE 4811-45-P